DEPARTMENT OF HEALTH AND HUMAN SERVICES

National Institutes of Health

National Institute of Neurological Disorders and Stroke, Muscular Dystrophy Coordinating Committee Call for Committee Membership Nominations

SUMMARY: The Office of the Secretary of the Department of Health and Human Services (HHS) is seeking nominations of individuals to serve as non-federal public members on the Muscular Dystrophy Coordinating Committee.

DATES: Nominations are due by close of business, February 27, 2015.

ADDRESSES: Nominations must be sent to Glen Nuckolls, Ph.D., by email to nuckollg@ninds.nih.gov.

FOR FURTHER INFORMATION CONTACT: Glen Nuckolls, Ph.D., by email to nuckollg@ninds.nih.gov.

SUPPLEMENTARY INFORMATION: The Muscular Dystrophy Coordinating Committee (MDCC) is a federal advisory committee established in accordance with the Muscular Dystrophy Community Assistance, Research, and Education Amendments of 2001 (MD-CARE Act; Public Law 107-84. The MD-CARE Act was reauthorized in 2008 by Public Law 110-361, and again in 2014 by Public Law 113-166. The 2014 reauthorization mandated changes to the membership of the MDCC, resulting in the addition of one public member. Nominations of non-federal public members will be accepted between January 30, 2015 and February 27, 2015.

Who is Eligible: Nominations of new non-federal public members interested in advancing muscular dystrophy research and reducing the burden of disease are encouraged. Self-nominations and nominations of other individuals are both permitted. Only one nomination per individual is required. Multiple nominations for the same individual will not increase likelihood of selection. Non-federal public members may be selected from the pool of submitted nominations and other sources as needed to meet statutory requirements and to form a balanced committee that represents the diversity within the muscular dystrophy community. Those eligible for nomination include leaders or representatives of major muscular dystrophy research, advocacy, and service organizations, parents or guardians of individuals with muscular dystrophy, individuals with muscular dystrophy and service providers, educators, researchers, and other individuals with professional or personal experience with muscular dystrophy. In accordance with White House Office of Management and Budget guidelines (FR Doc. 2014-19140), federally-registered lobbyists are not eligible.

Committee Composition: In accordance with the Committee's authorizing statute, ⅔ of members of the Coordinating Committee shall represent government agencies and ⅓ of members shall be public members “including a broad cross section of persons affected with muscular dystrophies including parents or legal guardians, affected individuals, researchers, and clinicians.”

The Department strives to ensure that the membership of HHS Federal advisory committees is fairly balanced in terms of points of view represented and the committee's function. Every effort is made to ensure that the views of women, all ethnic and racial groups, and people with disabilities are represented on HHS Federal advisory committees and, therefore, the Department encourages nominations of qualified candidates from these groups. The Department also encourages geographic diversity in the composition of the Committee. Appointment to this Committee shall be made without discrimination on the basis of age, race, ethnicity, gender, sexual orientation, disability, and cultural, religious, or socioeconomic status. Requests for reasonable accommodation to enable participation on the Committee should be indicated in the nomination submission.

Member Terms: Non-Federal public members of the Committee serve for a term of 3 years, and may serve for an unlimited number of terms if reappointed. Members may serve after the expiration of their terms, until their successors have taken office.

Meetings and Travel: As specified by Public Law 113-166, the MDCC “shall meet no fewer than two times per calendar year.” Travel expenses are provided for non-federal public Committee members to facilitate attendance at in-person meetings. Members are expected to make every effort to attend all full committee meetings, twice per year, either in person or via remote access. Participation in relevant subcommittee, working and planning group meetings, and workshops, is also encouraged.

Submission Instructions and Deadline: Nominations are due by COB February 27, 2015, and should be sent to Glen Nuckolls, Ph.D., by email to nuckollg@ninds.nih.gov. Nominations must include contact information for the nominee, a current curriculum vitae or resume of the nominee and a paragraph describing the qualifications of the person to represent some portion(s) of the muscular dystrophy research and patients communities.

More information about the MDCC is available at http://www.ninds.nih.gov/about_ninds/groups/mdcc/.

Dated: January 25, 2015.
Walter J. Koroshetz,
Acting Director, National Institute of Neurological Disorders and Stroke, National Institutes of Health.

[FR Doc. 2015-01960 Filed 1-30-15; 8:45 am]

BILLING CODE 4140-01-P